DEPARTMENT OF TRANSPORTATION

Federal Aviation Administration

14 CFR Part 39

[Docket No. FAA-2005-23440; Directorate Identifier 2005-NM-256-AD; Amendment 39-14452; AD 2006-01-51]

RIN 2120-AA64

Airworthiness Directives; Frakes Aviation (Gulfstream American) Model G-73 (Mallard) Series Airplanes and Model G-73 Airplanes That Have Been Converted To Have Turbine Engines

AGENCY: Federal Aviation Administration (FAA), Department of Transportation (DOT).

ACTION: Final rule; request for comments.

SUMMARY: This document publishes in the Federal Register an amendment adopting airworthiness directive (AD) 2006-01-51 that was sent previously by individual notices to all known U.S. owners and operators of Frakes Aviation (Gulfstream American) Model G-73 (Mallard) series airplanes and Model G-73 airplanes that have been converted to have turbine engines. This AD requires an inspection to detect repairs, cracking, or corrosion of the wings from wing station (WS) 77L to WS 77R, front spar to rear (main) spar; removal of repairs, if found; removal of sealant from the interior of the wet bays; and repair of any crack or corrosion. This AD results from a report indicating that the right wing of a Frakes Aviation (Gulfstream American) Model G-73 (Mallard) airplane separated from the fuselage on takeoff, which resulted in the airplane impacting the water near Miami Beach, Florida. We are issuing this AD to prevent structural failure of the wing and loss of control of the airplane.

DATES: This AD becomes effective January 17, 2006 to all persons except those persons to whom it was made immediately effective by emergency AD 2006-01-51, issued December 30, 2005, which contained the requirements of this amendment.

We must receive comments on this AD by March 13, 2006.

ADDRESSES: Use one of the following addresses to submit comments on this AD.

• DOT Docket Web site: Go to http://dms.dot.gov and follow the instructions for sending your comments electronically.

• Government-wide rulemaking Web site: Go to http://www.regulations.gov and follow the instructions for sending your comments electronically.

• Mail: Docket Management Facility; U.S. Department of Transportation, 400 Seventh Street SW., Nassif Building, Room PL-401, Washington, DC 20590.

• Fax: (202) 493-2251.

• Hand Delivery: Room PL-401 on the plaza level of the Nassif Building, 400 Seventh Street SW., Washington, DC, between 9 a.m. and 5 p.m., Monday through Friday, except Federal holidays.

Docket: The AD docket contains the emergency AD, comments, and any final disposition. You can examine the AD docket on the Internet at http://dms.dot.gov, or in person at the Docket Management Facility office between 9 a.m. and 5 p.m., Monday through Friday, except Federal holidays. The Docket Management Facility office (telephone (800) 647-5227) is located on the plaza level of the Nassif Building at the U.S. Department of Transportation, 400 Seventh Street SW., room PL-401, Washington, DC. This docket number is FAA-2005-23440; the directorate identifier for this docket is 2005-NM-256-AD.

FOR FURTHER INFORMATION CONTACT: Robert A. Romero, Aerospace Engineer, ACO, ASW-150, Rotorcraft Directorate, FAA, 2601 Meacham Boulevard, Fort Worth, Texas 76137-4298; telephone (817) 222-5102; fax (817) 222-5960; or Hung V. Nguyen, Aerospace Engineer, ACO, ASW-150, Rotorcraft Directorate, FAA, 2601 Meacham Boulevard, Fort Worth, Texas 76137-4298; telephone (817) 222-5155; fax (817) 222-5960.

SUPPLEMENTARY INFORMATION: On December 30, 2005, we issued emergency AD 2006-01-51, which applies to all Frakes Aviation (Gulfstream American) Model G-73 (Mallard) series airplanes and Model G-73 airplanes that have been converted to have turbine engines.

Background

On December 19, 2005, the right wing of a Frakes Aviation (Gulfstream American) Model G-73 (Mallard) airplane separated from the fuselage on takeoff, which resulted in the airplane impacting the water near Miami Beach, Florida. The wing separated between the fuselage attachment and the engine attachment.

This twin-engine airplane was manufactured in 1947. This particular airplane was operated in passenger service and in a salt-water environment. The airplane had accumulated over 31,000 total flight hours and over 39,000 total flight cycles. Although the cause of this accident has not yet been determined by the National Transportation Safety Board (NTSB), preliminary indications from the investigation reveal occurrences of fatigue cracking of a wing spar, skin cracking, and a broken z-stringer.

The loss of the lower skin capability, or the spar and stringer capability, will likely lead to wing failure. This condition, if not corrected, could result in structural failure of the wing and loss of control of the airplane.

FAA's Determination and Requirements of This AD

Since the unsafe condition described is likely to exist or develop on other airplanes of the same type design, we issued emergency AD 2006-01-51 to prevent structural failure of the wing and loss of control of the airplane. The AD requires a detailed visual inspection to detect repairs, cracking, or corrosion of the wings from wing station (WS) 77L to WS 77R, front spar to rear (main) spar; removal of repairs, if found, to allow for inspection of the wing structure underneath the repairs; removal of sealant from the interior of the wet bays to allow for inspection of the skins, stringers, and both spars; and repair of any crack or corrosion. The inspection and repair are required to be done in accordance with a method approved by the FAA. The AD also requires sending the inspection results (both positive and negative) to the FAA.

We found that immediate corrective action was required; therefore, notice and opportunity for prior public comment thereon were impracticable and contrary to the public interest, and good cause existed to make the AD effective immediately by individual notices issued on December 30, 2005, to all known U.S. owners and operators of Frakes Aviation (Gulfstream American) Model G-73 (Mallard) series airplanes and Model G-73 airplanes that have been converted to have turbine engines. These conditions still exist, and the AD is hereby published in the Federal Register as an amendment to section 39.13 of the Federal Aviation Regulations (14 CFR 39.13) to make it effective to all persons.

Additional Source of Service Information

Operators should note that Frakes Aviation may be contacted as a source of preliminary service information as follows: Frakes Aviation, Cleburne Airport, Route 3, Box 229-B, Cleburne, TX 76031; telephone (817) 556-0700.

Interim Action

This AD is considered to be interim action. The inspection reports that are required by this AD will enable the FAA to obtain better insight into the nature, cause, and extent of the cracking, and eventually to develop final action to address the unsafe condition. Frakes Aviation may be contacted as a source of preliminary service information as follows: Frakes Aviation, Cleburne Airport, Route 3, Box 229-B, Cleburne, TX 76031; telephone (817) 556-0700.

Frakes Aviation has advised the FAA that it is developing special detailed (i.e., non-destructive testing) inspection procedures that are expected to be available within 45 days. You may choose to comply with the interim action required by this AD if you must fly before the special detailed inspection becomes available. Otherwise, you may wait for the service information that is being developed by Frakes Aviation. Once that service information is available and approved, we anticipate superseding this AD to require compliance with that information.

Comments Invited

This AD is a final rule that involves requirements that affect flight safety and was not preceded by notice and an opportunity for public comment; however, we invite you to submit any relevant written data, views, or arguments regarding this AD. Send your comments to an address listed in the ADDRESSES section. Include “Docket No. FAA-2005-23440; Directorate Identifier 2005-NM-256-AD” at the beginning of your comments. We specifically invite comments on the overall regulatory, economic, environmental, and energy aspects of the AD. We will consider all comments received by the closing date and may amend the AD in light of those comments.

We will post all comments we receive, without change, to http://dms.dot.gov, including any personal information you provide. We will also post a report summarizing each substantive verbal contact with FAA personnel concerning this AD. Using the search function of our docket Web site, anyone can find and read the comments in any of our dockets, including the name of the individual who sent the comment (or signed the comment on behalf of an association, business, labor union, etc.). You can review the DOT's complete Privacy Act Statement in the Federal Register published on April 11, 2000 (65 FR 19477-78), or you can visit http://dms.dot.gov.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

The FAA has determined that this regulation is an emergency regulation that must be issued immediately to correct an unsafe condition in aircraft, and that it is not a “significant regulatory action” under Executive Order 12866. It has been determined further that this action involves an emergency regulation under DOT Regulatory Policies and Procedures (44 FR 11034, February 26, 1979). If this emergency regulation is later deemed significant under DOT Regulatory Policies and Procedures, we will prepare a final regulatory evaluation and place it in the AD Docket. See the ADDRESSES section for a location to examine the regulatory evaluation, if filed.

List of Subjects in 14 CFR Part 39

Air transportation, Aircraft, Aviation safety, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2006-01-51 Frakes Aviation (Gulfstream American): Amendment 39-14452. Docket No. FAA-2005-23440; Directorate Identifier 2005-NM-256-AD.

Effective Date

(a) This AD becomes effective January 17, 2006, to all persons except those persons to whom it was made immediately effective by emergency AD 2006-01-51, issued on December 30, 2005, which contained the requirements of this amendment.

Affected ADs

(b) None.

Applicability

(c) This AD applies to all Frakes Aviation (Gulfstream American) Model G-73 (Mallard) series airplanes; and Model G-73 airplanes that have been converted to have turbine engines; certificated in any category.

Unsafe Condition

(d) This AD results from a report indicating that the right wing of a Frakes Aviation (Gulfstream American) Model G-73 (Mallard) airplane separated from the fuselage on takeoff, which resulted in the airplane impacting the water near Miami Beach, Florida. Although the cause of this accident has not yet been determined by the National Transportation Safety Board (NTSB), preliminary indications from the investigation reveal occurrences of fatigue cracking of a wing spar, skin cracking, and a broken z-stringer. This condition, if not corrected, could result in structural failure of the wing and loss of control of the airplane.

Compliance

(e) You are responsible for having the actions required by this AD performed within the compliance times specified, unless the actions have already been done.

Inspection

(f) Before further flight, perform a detailed visual inspection to detect repairs, cracking, or corrosion of the wings from wing station (WS) 77L to WS 77R, front spar to rear (main) spar; remove any repair that is found, to allow for inspection of the wing structure underneath the repairs; and remove the sealant from the interior of the wet bays to allow for inspection of the skins, stringers, and both spars. Perform the inspection in accordance with a method approved by the Manager, Airplane Certification Office (ACO), ASW-150, Rotorcraft Directorate, FAA.

Note 1: For the purposes of this AD, a detailed visual inspection is: “An intensive examination of a specific item, installation, or assembly to detect damage, failure, or irregularity. Available lighting is normally supplemented with a direct source of good lighting at an intensity deemed appropriate. Inspection aids such as mirror, magnifying lenses, etc., may be necessary. Surface cleaning and elaborate procedures may be required.”

Reporting

(g) Before further flight, submit a report of the findings (both positive and negative) of the inspection required by paragraph (f) of this AD to Robert A. Romero, Aerospace Engineer, ACO, ASW-150, Rotorcraft Directorate, FAA; 2601 Meacham Boulevard, Fort Worth, Texas 76137-4298; fax (817) 222-5960. The report must include the inspection results, a description of any discrepancies found, the airplane serial number, and the number of total flight cycles and flight hours on the airplane. Under the provisions of the Paperwork Reduction Act of 1980 (44 U.S.C. 3501 et seq.), the Office of Management and Budget (OMB) has approved the information collection requirements contained in this AD and has assigned OMB Control Number 2120-0056.

Repair

(h) If any cracking or corrosion is found during the inspection required by paragraph (f) of this AD, repair before further flight, in accordance with a method approved by the Manager, ACO, ASW-150, Rotorcraft Directorate, FAA.

Special Flight Permit

(i) Special flight permits, as described in Section 21.197 (“Special flight permits”) and Section 21.199 (“Issue of special flight permits”) of the Federal Aviation Regulations (14 CFR 21.197 and 21.199), may be issued to operate the airplane to a location where the requirements of this AD can be accomplished but concurrence by the Manager, ACO, ASW-150, Rotorcraft Directorate, FAA, is required prior to issuance of the special flight permit.

Alternative Methods of Compliance (AMOCs)

(j)(1) The Manager, ACO, ASW-150, Rotorcraft Directorate, FAA, has the authority to approve AMOCs for this AD, if requested in accordance with the procedures found in 14 CFR 39.19.

(2) Before using any AMOC approved in accordance with § 39.19 on any airplane to which the AMOC applies, notify the appropriate principal inspector in the FAA Flight Standards Certificate Holding District Office.

Material Incorporated by Reference

(k) None.

Issued in Renton, Washington, on January 5, 2006.
Ali Bahrami,
Manager, Transport Airplane Directorate, Aircraft Certification Service.

[FR Doc. 06-259 Filed 1-11-06; 8:45 am]

BILLING CODE 4910-13-P